DEPARTMENT OF HEALTH AND HUMAN SERVICES

Centers for Disease Control and Prevention

[30Day-11-10GT]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Behavioral Assessment Component of the Behavioral Assessment and Rapid Testing (BART) Project—New—National Center for HIV/AIDS, Viral Hepatitis, STD, and TB Prevention (NCHHSTP), Centers for Disease Control and Prevention (CDC).

Background and Brief Description

This Behavioral Assessment and Rapid Testing project involves conducting behavioral assessments and rapid HIV testing at a variety of events serving groups at high risk for acquiring or transmitting HIV infection. Behavioral assessments will be conducted using one protocol and one research agenda but at events serving different minority and hard-to-reach populations. This project will address the increasing rates of HIV infection among African Americans (AAs) and men who have sex with men as well as the need for early detection and linkage to health care for HIV-infected persons. The behavioral assessment component will provide the opportunity to describe the risk profiles and prevalence of unrecognized infection among individuals reachable for HIV counseling and testing at these events. Collected data will be used to develop risk reduction interventions that are appropriate for the attendees of future events that attract persons who may be at high risk for HIV infection.

The purpose of the proposed data collection is to collect behavioral data at selected public events serving specific high-risk populations and to increase the proportion of at-risk persons who are aware of their HIV status. This project seeks to improve HIV prevention by collecting information from persons who do not access HIV testing in fixed testing venues or do not test as frequently as is recommended. The behavioral assessment component of the project addresses the need for increased behavioral data among some high-risk groups that are more difficult to access or represent increasingly greater proportions of the HIV epidemic.

A convenience sample will be used to select attendees at (1) Gay Pride; (2) Minority Gay Pride; (3) black spring break; and (4) cultural and social events attracting large numbers of African Americans.

Trained interviewers will select and approach event attendees. A screener questionnaire will be used to determine participation eligibility and obtain oral consent. Approximately 7,000 individuals will be approached and screened (through a 2-minute interview) for eligibility to participate each year. Approximately 5,600 individuals are expected to be eligible and participate in the 5- to 15-minute behavioral assessment interview each year. There is no cost to respondents other than their time. The estimated annual burden is 1,633 hours.

Estimate of Annualized Burden Hours
Respondent | Form | No. of respondents | No. of responses per respondent | Average burden per response (hours)
Event attendees | Eligibility Screener | 7,000 | 1 | 2/60
Event attendees | Behavioral Assessment | 5,600 | 1 | 15/60

Dated: November 1, 2010.
Carol Walker,
Reports Clearance Officer, Centers for Disease Control and Prevention.

[FR Doc. 2010-27982 Filed 11-4-10; 8:45 am]

BILLING CODE 4163-18-P